FEDERAL EMERGENCY MANAGEMENT AGENCY

[FEMA-1329-DR]

New Mexico; Amendment No. 6 to Notice of a Major Disaster Declaration

AGENCY: Federal Emergency Management Agency (FEMA).

ACTION: Notice.

SUMMARY: This notice amends the notice of a major disaster for the State of New Mexico FEMA-1329-DR, dated May 13, 2000, and related determinations.

EFFECTIVE DATE: July 13, 2000.

FOR FURTHER INFORMATION CONTACT: Madge Dale, Readiness, Response and Recovery Directorate, Federal Emergency Management Agency, Washington, DC 20472, (202) 646-2705 or madge.dale@fema.gov.

SUPPLEMENTARY INFORMATION: Notice is hereby given that certain cost share provisions for the Public Assistance, Individual and Family Grant, Temporary Housing Assistance, and Hazard Mitigation Grant programs under the major disaster declaration were waived in accordance with section 104(k) of the Cerro Grande Fire Assistance Act, Pub. L. 106-246, 114 Stat. 589 (2000). The waiver applies to projects and programs undertaken in response to the Cerro Grande fire. The Federal share of eligible costs will be 100 percent for the following affected areas and programs:

Los Alamos County for Public Assistance, Temporary Housing Assistance, including mobile home group site construction and site development costs (including installation of utilities), and the Individual and Family Grant Program.

Rio Arriba, Sandoval, and Santa Fe Counties for the Individual and Family Grant Program.

For hazard mitigation measures undertaken in response to the Cerro Grande fire.

(The following Catalog of Federal Domestic Assistance Numbers (CFDA) are to be used for reporting and drawing funds: 83.537, Community Disaster Loans; 83.538, Cora Brown Fund Program; 83.539, Crisis Counseling; 83.540, Disaster Legal Services Program; 83.541, Disaster Unemployment Assistance (DUA); 83.542, Fire Suppression Assistance; 83.543, Individual and Family Grant (IFG) Program; 83.544, Public Assistance Grants; 83.545, Disaster Housing Program; 83.548, Hazard Mitigation Grant Program.)
Joe M. Allbaugh,
Director.

[FR Doc. 02-10211 Filed 4-24-02; 8:45 am]

BILLING CODE 6718-02-P